DEPARTMENT OF COMMERCE

National Oceanic and Atmospheric Administration

[RTID 0648-XC008]

Endangered and Threatened Species; Take of Anadromous Fish

AGENCY: National Marine Fisheries Service (NMFS), National Oceanic and Atmospheric Administration (NOAA), Commerce.

ACTION: Notice, Permit Renewal of an Endangered Species Act (ESA) Section 10(a)1(A) scientific enhancement permit.

SUMMARY: Notice is hereby given that NMFS renewed Section 10(a)1(A) scientific enhancement Permit 20085-2R to Stillwater Sciences Inc. (Stillwater). Authorized activities within the permit are expected to affect and enhance the threatened South Central California Coast (SCCC) Distinct Population Segment (DPS) of steelhead (Oncorhynchus mykiss) through invasive species removal from a southern California watershed (Chorro Creek) in San Luis Obispo County, California.

ADDRESSES: The permit application, the permit, and other related documents are available for review by contacting the California Coastal Office, Section 10(a)1(A) permit coordinator for southern California (Matt McGoogan: phone: 562-980-4026 or email at: Matthew.McGoogan@noaa.gov). The application for Permit 20085-2R is also available for review at the Authorizations and Permits for Protected Species website: https://apps.nmfs.noaa.gov/search/search.cfm.

FOR FURTHER INFORMATION CONTACT: Matt McGoogan at 562-980-4026, or email: Matthew.McGoogan@noaa.gov.

SUPPLEMENTARY INFORMATION:

ESA-Listed Species Covered in This Notification

Threatened SCCC steelhead.

Authority

Scientific research and enhancement permits are issued in accordance with Section 10(a)(1)(A) of the ESA (16 U.S.C. 1531 et seq.) and regulations governing listed fish and wildlife permits (50 CFR 222-227). NMFS issues a Section 10(a)1(A) permit based on findings that the permit is (1) applied for in good faith, (2) would not operate to the disadvantage of the listed species which is the subject of the permit, and (3) consistent with the purposes and policies set forth in Section 2 of the ESA. Authority for take exemption of listed species is subject to conditions set forth in the permit.

Permit 20085-2R

A receipt of application notice for Permit 20085-2R was published in the Federal Register on August 20, 2021 (86 FR 46832), providing 30 days for public comment prior to permit processing. No comments were received. Permit 20085-2R was issued to Stillwater on October 20, 2021.

Permit 20085-2R authorizes take exemption of threatened SCCC steelhead in association with enhancement activities involving the removal of Sacramento pikeminnow (Ptychocheilus grandis) from the Chorro Creek watershed in San Luis Obispo County, California. The primary objectives of this enhancement effort involve: (1) Determining the distribution, abundance, size, and age structures of both pikeminnow and steelhead in the watershed; (2) eliminating pikeminnow from the watershed; (3) developing a plan for long-term pikeminnow management in the watershed; and (4) documenting changes in steelhead abundance and distribution in response to pikeminnow removal. Proposed enhancement activities include: (1) Conducting snorkel surveys to assess abundance and distribution of pikeminnow and steelhead; (2) using backpack electrofishing equipment, seines, hook-and-line sampling, and spearfishing to capture pikeminnow; (3) measuring the weight and length of juvenile steelhead collected during sampling activities; (4) returning the collected steelhead alive and unharmed to Chorro Creek; and (5) humanely euthanizing and disposing pikeminnow.

Permit 20085-2R authorized field activities associated with the enhancement effort to begin on October 20, 2021 (the date the permit was issued), and ceases authorization of the subject activities when the permit expires on December 31, 2031. The annual take exemption of threatened SCCC steelhead that permit 20085-2R authorizes for the subject enhancement effort is as follows: (1) Non-lethal capture and release of up to 1,500 juvenile steelhead while electrofishing, (2) non-lethal capture and release of up to 150 juvenile steelhead while seining, (3) non-lethal capture and release up to 10 juvenile steelhead while hook-and-line fishing, and (4) non-lethal observation of up to 2,000 juvenile and 10 adult steelhead during instream snorkel surveys. The potential annual unintentional lethal take permit 20085-2R authorizes is up to 33 juvenile steelhead. No intentional lethal take of steelhead is authorized or expected as a result of these enhancement activities.

The subject scientific enhancement activities that Permit 20085-2R authorizes are expected to support steelhead recovery in the Chorro Creek watershed and are consistent with recommendations and objectives outlined in NMFS' South Central California Coast Steelhead Recovery Plan. See the application for Permit 20085-2R and issued Permit 20085-2R for greater details on the associated scientific enhancement activities and related methodology authorized with this permit.

Dated: May 3, 2022.
Angela Somma,
Chief, Endangered Species Division, Office of Protected Resources, National Marine Fisheries Service.

[FR Doc. 2022-09838 Filed 5-6-22; 8:45 am]

BILLING CODE 3510-22-P